CONSUMER PRODUCT SAFETY COMMISSION

Sunshine Act Meetings

TIME AND DATE: Wednesday, April 19, 2023—10 a.m.-12:30 p.m. (See MATTERS TO BE CONSIDERED for each meeting).

PLACE: The meetings will be held remotely, and in person at 4330 East West Highway, Bethesda, Maryland, 20814.

STATUS: Commission Meetings—Open to the Public/Closed to the Public.

MATTERS TO BE CONSIDERED:

Decisional Matter (10 a.m.): Implementation of STURDY § 201(d): Determination Regarding ASTM F2057-23 and Draft Direct Final Rule.

To attend virtually, please use the following link: https://cpsc.webex.com/weblink/register/r516dc11f6e2a58f88b4766cd72784884.

Briefing Matter (10:30 a.m.): FY 2023 Proposed Operating Plan Alignment and Midyear Review. To attend virtually, please use the following link: https://cpsc.webex.com/weblink/register/r35b8f931ed4ef99dc9e086a008180362.

Briefing Matter: (11:30 a.m.) Enforcement matter. Closed to the Public.

CONTACT PERSON FOR MORE INFORMATION: Alberta E. Mills, Office of the Secretary, U.S. Consumer Product Safety Commission, 4330 East West Highway, Bethesda, MD 20814, 301-504-7479 (Office) or 240-863-8938 (Cell).

Dated: April 12, 2023.
Alberta E. Mills,
Commission Secretary.

[FR Doc. 2023-07989 Filed 4-12-23; 11:15 am]

BILLING CODE P